DEPARTMENT OF TRANSPORTATION

Federal Aviation Administration

14 CFR Part 39

[Docket No. FAA-2011-1095; Directorate Identifier 2010-NM-241-AD]

RIN 2120-AA64

Airworthiness Directives; Bombardier, Inc. Model CL-600-2B16 (CL-601-3A, CL-601-3R, and CL-604 Variants) Airplanes

AGENCY: Federal Aviation Administration (FAA), DOT.

ACTION: Notice of proposed rulemaking (NPRM).

SUMMARY: We propose to adopt a new airworthiness directive (AD) for the products listed above. This proposed AD results from mandatory continuing airworthiness information (MCAI) originated by an aviation authority of another country to identify and correct an unsafe condition on an aviation product. The MCAI describes the unsafe condition as:

During pre-delivery inspections and test flights, several short circuit events were reported, one of which resulted in smoke in the cockpit. There were no in-service incidents.

Investigations have identified three conditions affecting the wiring of Circuit Breaker Panels * * * and Junction Boxes * * *, which would lead to short circuiting:

* * * * *

If not corrected, these conditions could result in arcing, damage to adjacent structure, smoke in the cockpit, or loss of system redundancies.

* * * * *

The proposed AD would require actions that are intended to address the unsafe condition described in the MCAI.

DATES: We must receive comments on this proposed AD by December 12, 2011.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

For service information identified in this proposed AD, contact Bombardier, Inc., 400 Côte-Vertu Road West, Dorval, Québec H4S 1Y9, Canada; phone: 514-855-5000; fax: 514-855-7401; e-mail: thd.crj@aero.bombardier.com; Internet: http://www.bombardier.com. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (phone: 800-647-5527) is in the ADDRESSES section. Comments will be available in the AD docket shortly after receipt.

FOR FURTHER INFORMATION CONTACT: Assata Dessaline, Aerospace Engineer, Avionics and Flight Test Branch, ANE-172, New York Aircraft Certification Office (ACO), FAA, 1600 Stewart Ave. Suite 410, Westbury, NY 11590; telephone (516) 228-7301; fax (516) 794-5531.

SUPPLEMENTARY INFORMATION:

Comments Invited

We invite you to send any written relevant data, views, or arguments about this proposed AD. Send your comments to an address listed under the ADDRESSES section. Include “Docket No. FAA-2011-1095; Directorate Identifier 2010-NM-241-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

Transport Canada Civil Aviation (TCCA), which is the airworthiness authority for Canada, has issued Canadian Airworthiness Directive CF-2010-25, dated August 3, 2010 (referred to after this as “the MCAI”), to correct an unsafe condition for the specified products. The MCAI states:

During pre-delivery inspections and test flights, several short circuit events were reported, one of which resulted in smoke in the cockpit. There were no in-service incidents.

Investigations have identified three conditions affecting the wiring of Circuit Breaker Panels 1, 2, 3 and 4 (CBP-1, CBP-2, CBP-3, and CBP-4) and Junction Boxes 17 and 18 (JB17 and JB18), which would lead to short circuiting:

1. In CBP-1, there may be low clearance between specific bus bars and the circuit breaker panel structure.

2. Some nickel-plated terminal lugs, size number 22-20 with a green insulating sleeve, may not have been manufactured to applicable standards. These terminal lugs may have been installed in CBP-1, CBP-2, CBP-3, CBP-4, JB17 and JB18. This manufacturing defect affects the mechanical hold of the wire in the crimped lug barrel.

3. In JB17, JB18 and the above-mentioned CBPs, foreign object debris (FOD) may be found.

If not corrected, these conditions could result in arcing, damage to adjacent structure, smoke in the cockpit, or loss of system redundancies.

This TCCA directive is issued to mandate the replacement or relocation of the specific CBP-1 bus bars, the [detailed] inspection, and rework if necessary, of any loose or improperly crimped lugs in CBP-1, CBP-2, CBP-3, CBP-4, JB17 and JB18, and to ensure there is no FOD in the affected areas [via a general visual inspection for FOD, and removal if necessary].

You may obtain further information by examining the MCAI in the AD docket.

Relevant Service Information

Bombardier has issued Service Bulletin 605-24-002, dated December 07, 2009, and Service Bulletin 605-24-004, dated January 18, 2010. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a NOTE within the proposed AD.

Costs of Compliance

Based on the service information, we estimate that this proposed AD would affect about 69 products of U.S. registry. We also estimate that it would take about 6 work-hours per product to comply with the basic requirements of this proposed AD. The average labor rate is $85 per work-hour. Required parts would cost about $347 per product. Where the service information lists required parts costs that are covered under warranty, we have assumed that there will be no charge for these costs. As we do not control warranty coverage for affected parties, some parties may incur costs higher than estimated here. Based on these figures, we estimate the cost of the proposed AD on U.S. operators to be $59,133, or $857 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Bombardier, Inc.: Docket No. FAA-2011-1095; Directorate Identifier 2010-NM-241-AD.

Comments Due Date

(a) We must receive comments by December 12, 2011.

Affected ADs

(b) None.

Applicability

(c) This AD applies to Bombardier, Inc. Model CL-600-2B16 (CL-601-3A, CL-601-3R, and CL-604 Variants) airplanes, certificated in any category, serial numbers 5701 through 5752 inclusive, 5754 through 5775 inclusive, 5777, 5779 through 5781 inclusive, 5783 through 5790 inclusive, 5792, 5794 through 5796 inclusive, 5798, 5801, and 5804.

Subject

(d) Air Transport Association (ATA) of America Code 24: Electrical Power.

Reason

(e) The mandatory continuing airworthiness information (MCAI) states:

During pre-delivery inspections and test flights, several short circuit events were reported, one of which resulted in smoke in the cockpit. There were no in-service incidents.

Investigations have identified three conditions affecting the wiring of Circuit Breaker Panels * * * and Junction Boxes * * *, which would lead to short circuiting:

If not corrected, these conditions could result in arcing, damage to adjacent structure, smoke in the cockpit, or loss of system redundancies.

Compliance

(f) You are responsible for having the actions required by this AD performed within the compliance times specified, unless the actions have already been done.

Inspections, Bus Bar Actions, and Corrective Actions

(g) For airplanes having serial numbers 5701 through 5752, 5754 through 5775, 5777, 5780 through 5781, 5783 through 5790, 5792, 5794 through 5796, 5798, 5801, and 5804: Within 800 flight hours after the effective date of this AD, do the actions in paragraph (g)(1), (g)(2), and (g)(3) of this AD, in accordance with the Accomplishment Instructions of the Bombardier Service Bulletin 605-24-004, dated January 18, 2010.

(1) Do a detailed inspection in CBP-1 for loose lugs and for crimped lugs that have any of the conditions specified in step 2.B.(9)(d) of Bombardier Service Bulletin 605-24-004, dated January 18, 2010. Before further flight, replace all loose lugs and all crimped lugs in CBP-1 that have any of the conditions specified in step 2.B.(9)(d) of Bombardier Service Bulletin 605-24-004, dated January 18, 2010.

(2) Relocate or replace the CBP-1 bus bars as applicable.

(3) Do a general visual inspection for foreign object damage (FOD). If any FOD is found: Before further flight, remove the FOD.

(h) For airplanes having serial numbers 5701 through 5752, 5754 through 5756, 5758 through 5775, 5779, 5781, 5788, 5789, 5792, 5795, 5798, 5801, and 5804: Within 800 flight hours after the effective date of this AD, do the actions in paragraph (h)(1) and (h)(2) of this AD, in accordance with the Accomplishment Instructions of the Bombardier Service Bulletin 605-24-002, dated December 7, 2009.

(1) Do a detailed inspection for loose lugs and for crimped lugs that have any of the conditions specified in step 2.B.(2)(d) of Bombardier Service Bulletin 605-24-002, dated December 7, 2009, in CBP-2, CBP-3, CBP-4, JB17, and JB18. Before further flight, replace all loose lugs and all crimped lugs that have any of the conditions specified in step 2.B.(2)(d) of Bombardier Service Bulletin 605-24-002, dated December 7, 2009, in CBP-2, CBP-3, CBP-4, JB17, and JB18.

(2) Do a general visual inspection for FOD. If any FOD is found: Before further flight, remove the FOD.

FAA AD Differences

Note 1: This AD differs from the MCAI and/or service information as follows: The Accomplishment Instructions of Bombardier Service Bulletin 605-24-002, dated December 7, 2009, does not specify corrective action for the general visual inspection for FOD. This AD requires removing any FOD discovered during the general visual inspection.

Other FAA AD Provisions

(i) The following provisions also apply to this AD:

(1) Alternative Methods of Compliance (AMOCs): The Manager, New York Aircraft Certification Office, ANE-170, FAA, has the authority to approve AMOCs for this AD, if requested using the procedures found in 14 CFR 39.19. In accordance with 14 CFR 39.19, send your request to your principal inspector or local Flight Standards District Office, as appropriate. If sending information directly to the manager of the ACO, send it to ATTN: Program Manager, Continuing Operational Safety, FAA, New York ACO, 1600 Stewart Avenue, Suite 410, Westbury, New York 11590; telephone (516) 228-7300; fax (516) 794-5531. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

Related Information

(j) Refer to MCAI Canadian Airworthiness Directive CF-2010-25, dated August 3, 2010; and Bombardier Service Bulletin 605-24-002, dated December 07, 2009; and Bombardier Service Bulletin 605-24-004, dated January 18, 2010; for related information.

Issued in Renton, Washington, on October 17, 2011.
Kalene C. Yanamura,
Acting Manager, Transport Airplane Directorate, Aircraft Certification Service.

[FR Doc. 2011-27653 Filed 10-25-11; 8:45 am]

BILLING CODE 4910-13-P